DEPARTMENT OF LABOR

Employment and Training Administration

20 CFR Parts 652, 661, 662, 663, 664 and 667

RIN 1205-AB46

Workforce Investment Act Amendments

AGENCY: Employment and Training Administration (ETA), Labor.

ACTION: Proposed rule; withdrawal.

SUMMARY: The Department of Labor (DOL or Department) is announcing the withdrawal of the proposed rule that was published in the Federal Register on December 20, 2006 (71 FR 76558) relating to policy changes to the Workforce Investment Act and Wagner-Peyser Act Regulations. The Department no longer considers this proposed rule viable for final action at this time.

DATES: Effective August 19, 2009, the Department withdraws the proposed rule published on December 20, 2006, at 71 FR 76558.

FOR FURTHER INFORMATION CONTACT: Thomas M. Dowd, Administrator, Office of Policy Development and Research, Employment and Training Administration, U.S. Department of Labor, 200 Constitution Avenue, NW., Room N-5641, Washington, DC 20210, telephone: (202) 693-3700 (this is not a toll-free number).

Individuals with hearing or speech impairments may access the telephone number above via TTY by calling the toll-free Federal Information Relay Service at 1-800-877-8339.

SUPPLEMENTARY INFORMATION:

I. Background

The Workforce Investment Act (WIA) enacted in August 1998, reformed Federal job training programs and created a new, comprehensive workforce investment system. The legislation replaced the Job Training Partnership Act and amended the Wagner-Peyser Act. WIA authorization for appropriations expired on September 30, 2003. Although WIA reauthorization bills passed the House and the Senate, the reauthorization legislation was not enacted, and Congress continued to annually authorize and fund these programs through annual appropriations.

In the absence of reauthorizing legislation, the Department published a Notice of Proposed Rulemaking (NPRM) on December 20, 2006, to implement several policy changes to the Workforce Investment Act and Wagner-Peyser Act regulations. (71 FR 76558). Subsequently, in February 2007, Congress enacted language in the revised Continuing Resolution (Pub. L. 110-5, sec. 20601(a)(4)), prohibiting the Department from finalizing or implementing any proposed regulations under the Workforce Investment Act until legislation reauthorizing the Act is enacted. The prohibition has been reenacted annually, most recently in the Department of Labor Appropriations Act, 2009 (Pub. L. 111-8, Div. G, sec. 110).

II. Withdrawal of the Proposed Rule

The Department has decided to withdraw the proposed rule based upon the continuing Congressional prohibition against publishing a rule until the Workforce Investment Act is reauthorized. The Department notes, however, that the withdrawal of this proposed rule does not preclude it from reinstituting rulemaking concerning the issues addressed in the proposal at a future date. Should a future rulemaking ensue, the Department will provide a new opportunity for public comment on such a proposal.

Signed at Washington, DC, this 12th day of August 2009.
Jane Oates,
Assistant Secretary, Employment and Training Administration.

[FR Doc. E9-19801 Filed 8-18-09; 8:45 am]

BILLING CODE 4510-FN-P